DEPARTMENT OF ENERGY

Federal Energy Regulatory Commission

Notice of Application for Amendment of License and Soliciting Comments, Motions to Intervene, and Protests

January 17, 2001.

a. Application Type: Amend the project boundaries for the Kern Canyon Project.

b. Project No: 178-012.

c. Dates Filed: July 26, 2000.

d. Applicant: Pacific Gas and Electric Company.

e. Name of Project: Kern Canyon Project.

f. Location: The Kern Canyon Project is located on the Kern River, in Kern County, California.

g. Filed Pursuant to: 18 CFR 4.201.

h. Applicant Contact: Nicholas J. Markevich, License Coordinator, Hydro Generation, Pacific Gas and Electric Company, 245 Market Street, P.O. Box 770000, Mail Code N11C, San Francisco, California 94177; (415) 973-5358.

i. FERC Contact: Any questions on this notice should be addressed to Robert Shaffer at (202) 208-0944 or by e-mail at Robert.Shaffer@ferc.fed.us.

j. Deadline for filing comments and/or motions: February 23, 2001.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm. Please include the project number (P-178-012) on any comments or motions filed.

k. Description of Filing: Pacific Gas and Electric Company (PGE) filed an Application for amendment of License on July 26, 2000, to amend the project boundaries. PGE is proposing to revise the project boundary by realignment of an approximately ¼ mile long segment of the transmission line resulting from the relocation of five wood poles that occurred in 1991 and to accommodate the planned realignment of an approximately ½ mile long segment of the transmission line resulting from the relocation of up to six wood poles.

l. Locations of the Application: A copy of the application is available for inspection and reproduction at the Commission's Public Reference Room, located at 888 First Street, NE, Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-1926 Filed 1-22-01; 8:45 am]

BILLING CODE 6717-01-M